DEPARTMENT OF HEALTH AND HUMAN SERVICES

National Institutes of Health

National Institute of Diabetes and Digestive and Kidney Diseases; Amended Notice of Meeting

Notice is hereby given of a change in the meeting of the National Institute of Diabetes and Digestive and Kidney Diseases Special Emphasis Panel, March 06, 2014, 11:00 a.m. to March 06, 2014, 12:30 p.m., National Institutes of Health, Two Democracy Plaza, 6707 Democracy Boulevard, Bethesda, MD, 20892 which was published in the Federal Register on January 21, 2014, 69 FR 03392.

The meeting will be held on March 14, 2014 from 11:00 a.m. until 12:30 p.m. The meeting is closed to the public.

Dated: January 23, 2014.
David Clary,
Program Analyst, Office of Federal Advisory Committee Policy.

[FR Doc. 2014-01771 Filed 1-29-14; 8:45 am]

BILLING CODE 4140-01-P